DEPARTMENT OF AGRICULTURE

Natural Resources Conservation Service

7 CFR Part 610

RIN: 0578-AA29

Conservation of Private Grazing Land

AGENCY: Natural Resources Conservation Service, USDA.

ACTION: Proposed rule with request for comments.

SUMMARY: Subtitle H, Section 386 of the Federal Agriculture Improvement and Reform Act (FAIRA) of 1996 authorizes the Secretary to provide a coordinated technical, educational, and related assistance program to conserve and enhance private grazing land resources. The proposed rule sets forth a policy to implement amend the conservation technical assistance regulations as they relate to private grazing land conservation assistance.

DATES: Comments must be received by August 28, 2001.

ADDRESSES: Send comments by mail to Conservation Operations Division, NRCS, P.O. Box 2890, Washington, DC 20013-2890 or by e-mail: mark.berkland@usda.gov; attn: Conservation of Private Grazing Land. This rule may also be accessed via Internet. Users can access the NRCS Federal Register homepage and submit comments to the website http://www.nrcs.usda.gov. From the menu, select “Farm Bill.”

FOR FURTHER INFORMATION CONTACT: Mark W. Berkland, Director, Conservation Operations Division, NRCS, P.O. Box 2890, Washington, D.C. 20013-2890; telephone: (202) 720-1845; fax: (202) 720-4265; submit e-mail: mark.berkland@usda.gov, Attention: Conservation of Private Grazing Land.

SUPPLEMENTARY INFORMATION:

Executive Order 12866

This rule has been determined to be significant and was reviewed by the Office of Management and Budget (OMB) under Executive Order 12866. Pursuant to Sec. 6(a)(3) of Executive Order 12866, NRCS conducted an economic analysis of the potential impacts associated with this proposed rule. Copies of this economic analysis may be obtained from Mitch Flanagan, Conservation Operations Division, NRCS; telephone: (202) 690-5988; fax (202) 720-4265; e-mail: mitch.flanagan@usda.gov, Attention: Conservation of Private Grazing Land.

Regulatory Flexibility Act

Therefore, the Regulatory Flexibility Act is not applicable to this proposed rule. The Department of Agriculture (USDA) is not required by 5 U.S.C. 553 or any other provisions of law to publish a notice of proposed rulemaking with respect to the subject matter of this rule.

National Environmental Policy Act

The Conservation of Private Grazing Land (CPGL) program does not consist of financial assistance nor does it provide NRCS with the authority or opportunity to control the actions of private landowners and managers. The CPGL program provides NRCS with the authority to make recommendations to landowners and managers about techniques to improve the quality of their grazing lands. The landowners and managers are responsible for determining which actions to take. There is no specific Federal action that would affect the human environment; therefore, there is no basis on which to conduct a meaningful analysis of environmental effects. In addition, neither the CPGL Program, nor this regulation, result in any irretrievable commitment of resources.

Paperwork Reduction Act

No substantive changes have been made to this rule which will affect the record-keeping requirements and estimated burdens previously reviewed and approved under OMB control number 0578-0013.

Unfunded Mandates Reform Act of 1995

Pursuant to Title II of the Unfunded Mandates Reform Act of 1995, Pub. L. 104-4, the effects of this rulemaking action on State, local, and tribal governments have been assessed. The action does not compel with the expenditure of $100 million or more by any State, local, or tribal governments, or anyone in the private sector. Therefore, a statement under Section 202 of the Unfunded Mandates Reform Act of 1995 is not required.

Federal Crop Insurance Reform and Department of Agriculture Reorganization Act of 1994

USDA classified this proposed rule as “not major” under Section 304 of the Department of Agriculture Reorganization Act of 1994, Pub. L. 103-354. Therefore, a risk assessment is not required.

Purpose and Scope

Subtitle H, Section 386 of the FAIRA of 1996, 16 U.S.C. 2005b, sets forth policy and authority by providing assistance with the conservation of private grazing land. This proposed rule sets forth policy for NRCS to implement the new authority. Once this rule is final, NRCS will use existing funding, and/or any additional funds available, to provide assistance to grazing land owners for activities authorized by the FAIRA.

NRCS's CPGL program will expand the agency's long-standing technical assistance program. It states in 7 CFR part 610 that the NRCS mission promotes the quality of all agricultural lands. The lands included are grazing land, pastureland, rangeland, forestland, and cropland. Consequently, the long-term sustainability of the resource base is achieved with special attention to water quality, fish and wildlife habitat, wetlands, and unique natural areas.

Private grazing land constitutes nearly one-half of the non-Federal land of the United States. This land is basic to the environmental, social, and economic stability of rural areas. Private grazing land includes private, State-owned, tribally owned, and any other non-Federally owned land managed to produce livestock and/or wildlife. Grazing land is found in every State and constitutes the single largest watershed cover type in the United States. Healthy grazing land is the foundation of many communities and is a cornerstone of environmental quality and the core of healthy communities. Grazing land contributes significantly to the quality and quantity of water in the watershed.

Nearly 70 percent of the United States, excluding Alaska, holds private ownership. Almost 50 percent are in agricultural lands. The responsibility for stewardship of these lands lies in the hands of about 4.7 million individuals. Over 25 percent of these individuals own or manage grazing land. Thus, the care of 50 percent of the United States is provided by less than two percent of U.S. citizens. NRCS is currently providing annual technical assistance to approximately 45,000 grazing landowners and managers.

The use of technical assistance is voluntary. The assistance will allow grazing landowners and managers to implement their conservation planning decisions on private grazing land to maintain and improve grazing land resources.

NRCS's long-standing technical assistance program also provides assistance to private grazing landowners and managers in relation to soil and water conservation issues. NRCS also provides assistance to individuals pertaining to other resource concerns such as sustaining forage and grazing plants, conserving and improving wildlife habitat, improving and conserving fish habitat and the aquatic system. Nevertheless, this assistance is available under the auspices of soil and water conservation. Under the original authority, NRCS was only authorized to provide assistance to individuals pertaining to soil and water conservation.

The conservation agenda continues to expand as a result of greater scientific understanding of ecosystems. The agenda also expands the increasing number of policy actions, as well as Federal, State, and local laws and policies on environmental quality. These policy actions place new requirements on landowners and land users, thus increasing the demand for conservation technical assistance. Many of today's grazing landowners have difficulty staying abreast of environmental regulations, in addition to the new and emerging technologies impacting grazing land resources. Due to the complexity of resource issues surrounding grazing lands and the large landmass they manage, many private individuals prefer conservation technical assistance. Each of the grazing landowner's and manager's actions are important because they affect a particular piece of land. They also affect neighboring lands as well as the health of the larger ecosystems and watersheds in which they occur.

Since 1935, NRCS has provided technical assistance to landowners and managers to address soil erosion and water quality problems, including owners and managers of pasture and rangeland. Section 386 of FAIRA expands current technical assistance authorities to include:

• Using and improving energy-efficient ways to produce food and fiber;

• Improving the dependability and consistency in water supplies;

• Improving and conserving fish habitat and aquatic systems;

• Protecting and improving water quality;

• Conserving and improving habitat for wildlife;

• Sustaining forage and grazing plants;

• Using plants to sequester greenhouse gases;

• Enhancing recreational activities;

• Maintaining or reducing weed, noxious weed, and brush encroachment;

• Enhancing long-term economic opportunities;

• Providing opportunities for improved nutrient management from the land application of animal manure and other byproduct nutrient sources;

• Improving the quality of animals produced on these lands; and

• Producing food and fiber from lands that will not support cultivated crop production.

Technical assistance in the past has provided assistance for these authorities when the primary purpose was for addressing soil and water conservation issues. With this rule, technical assistance will be provided to individuals when soil and water conservation issues are not the primary resource concern. However, in applying this authority, conservation technical assistance is available for wildlife habitat improvement, animal health, forage quality improvement, air quality improvement, and other natural resource issues beyond soil and water conservation. Congress authorized assistance for these additional purposes by realizing that there are competing demands on private land grazing resources. Therefore, these lands can be enhanced by offering technical assistance to individuals, which will provide benefits to all citizens of the United States.

There are approximately 280 million acres of rangeland and 75 million acres of pastureland in need of conservation treatment. It is estimated that 17 percent of all of these acres have soil-related and water-related resource concerns that could be addressed by NRCS's existing technical assistance program. This leaves 83 percent (for a total of 355 million acres) in need of conservation treatment not directly related to soil and water conservation. There are resource concerns related to grazing management, farmland protection, wetlands and wildlife issues, air quality, livestock management, nutrient and pesticide management, and other resource concerns. Thus, NRCS has the authority to provide technical assistance to private grazing landowners and managers to address all resource concerns beyond soil and water conservation.

What happens on the land remains critical to economic and environmental well being, even if we never set foot on grazing land. Grazing land produces much of our food and water supplies and provides wildlife habitat and allows many recreational opportunities. There are many types of products derived from animals that are raised on grazing lands. Household products include furniture, clothes, soap, insulation, deodorants, and paints. Pharmaceutical products include blood plasma and medical sutures. Manufacturing products include hydraulic fluid, airplane lubricants, machine oils, car polish, and textiles.

Technical Assistance Furnished

NRCS provides technical assistance to land users and others who are responsible for making decisions related to land use, conservation treatment, and resource management. Technical assistance furnished by NRCS consists of program assistance, planning assistance, the application of conservation practices, and assistance in the technical phases of USDA cost-share programs.

NRCS will work with the local conservation district to prioritize a request to ensure that technical assistance is provided in a fair and equitable manner.

Planning assistance includes the evaluation and inventory of soil, water, animal, plant, air, and other resource data needed for land use, environmental, and conservation treatment decisions. NRCS assists land users in developing conservation plans for farms, ranches, and other land units. The land user's decisions are recorded in the plan based on their conservation objectives. These plans document an orderly installation of conservation practices, which ultimately make up a conservation system.

Application assistance is provided to help land users apply and maintain planned conservation work. NRCS assistance for applying the conservation practices and systems may include:

• Design, layout, and evaluation of conservation practices;

• Development of management alternatives and cultural practices needed to establish and maintain vegetation; and

• Other conservation practices needed to protect or enhance natural resources.

NRCS may provide assistance on the following:

• Maintaining and improving private grazing land and multiple value which depend upon private grazing land. For example, a grazing management plan would be beneficial to domestic livestock, in providing additional ground cover to reduce water runoff and increase water infiltration. Thus reducing the risk of flooding.

• Ensuring the long-term sustainability of private grazing land resources. The cyclical economic patterns in the grazing industry affect how intensively grazing land resources are used. The Nutrition Balance Analyzer is a technology design used in order to help managers make effective decisions about nutrition management of their livestock. It is estimated that a manager saves from $10-$32 per animal by improving the production efficiency from use of this technology;

• Implementing new grazing land management technologies. Technologies impacting grazing land, as in other industries, are always changing. Technical assistance provided to an individual assist in identifying and implementing new technologies to help improve the environmental, economic, and/or social challenges of the private grazing landowner or manager. These new and improved technologies may include new fencing materials, livestock watering facilities, chemicals to control invasive weeds, livestock health products, grazing management practices, fertilizer technologies, geographic information systems, and other computerized decision support systems;

• Managing resources on private grazing land through conservation planning, including, but not limited to, grazing management, nutrient management, weed and invasive species control, and providing recreational opportunities, water quality and quantity, aquatic and wildlife habitat, and aesthetics on private grazing land. With technical assistance, the producer may adjust management decisions as new information becomes available;

• Harvesting, processing, and marketing private grazing land resources. Technical assistance may be provided to help an individual develop specialty meats, leather, feathers, wool, and mohair products, or other products that are nontraditional;

• Identifying opportunities and diversifying private grazing land enterprises. Many operations have an opportunity to diversify their operation with technical assistance by establishing recreational opportunities that include hunting, fishing, kayaking, canoeing, hiking, biking, picnicking, camping, bird watching, nature photography, or farm and ranch vacations as additional enterprises.

When an individual implements a management decision as a result of technical assistance there is an impact on the natural resources (soil, water, plant, animal, and air). The social and economic resources of an individual and community are also affected. The interrelationship between natural resources and an individual management decisions make it difficult to identify all the impacts. Every individual action is important, not just because it affects that particular piece of land, but because it affects the neighboring land and health of the larger ecosystem.

For example, if a producer decides to implement a practice to control brush, it will have an impact on forage production that will change the grazing capacity of wildlife and domestic animals. It will also impact the nutrient cycle, impact the soil resource, change the water cycle, and change the diversity of the plant community. Implementing the brush management decision will affect the marketable product which will directly impact the individual economic situation, as well as impacting the local community.

The resources, goals, and objectives vary with each individual. Technical assistance helps landowners understand the land and the tools available to manage their land. Conservation solutions developed and implemented based themselves upon the specific resources and needs of an individual as a result of technical assistance.

Private grazing landowners and managers use the technical assistance for planning and implementing resource conservation plans on grazing land. The objectives of planning grazing lands are to assist landowners and managers to understand the basic ecological principles of plant/herbivore interaction, management implications to their land (soil, water, air, plants, and animals) and develop a plan that meets the needs of the resources and management objectives.

Conservation plans for grazing land include decisions for managing the plant community to conserve or enhance the soil, water, air, plant, and animal resources. The major objective of grazing land is the design and establishment of a grazing management plan. When combining the appropriate conservation practices, the plan sustains the resources to meet landowners' or managers' objectives. Landowners or managers make decisions to implement; thus, applying the necessary conservation practices.

Currently, NRCS has a congressional $18 million earmark in the conservation operations budget to address grazing issues. These dollars provide technical assistance to private landowners and operators to address soil and water conservation issues on grazing land under the current authority. Once this rule is finalized, NRCS will use this funding, and/or any additional funds, to provide assistance to grazing landowners for activities as authorized by FAIRA.

Interdisciplinary and Educational Assistance

Providing technical assistance to private grazing land is challenging due to the complexity of grazing land. NRCS provides a multidisciplinary work force, including, but not limited to, range management specialists, forage agronomists, grazing land specialists, soil scientists, engineers, biologists, economists, technicians, and others. These technical specialists have the capability of providing technical assistance as a method of integrating ecological, economic, and social factors. The assistance also maintains and enhances the quality of the environment to meet current and future needs of grazing landowners and managers.

The multidisciplinary NRCS workforce is the strength of the agency. Success depends on the technical expertise and ability to work effectively with grazing landowners and managers. NRCS strives to keep personnel trained in grazing land management, state-of-the-art technologies, and new scientific knowledge to ensure they have the technical expertise to provide technical assistance to grazing landowners and managers.

NRCS works with the Cooperative State Research, Education, and Extension Service; the Agricultural Research Service; universities; and others, to provide information and educational activities for owners and managers of private grazing land. Activities may include, but are not limited to, developing technical publications, conducting demonstrations, and conducting tours.

The economic benefits vary between every individual operation. The net financial benefits of increased forage production will vary among producers, depending upon the cost of implementing grazing land practices. Costs vary from a few dollars to several hundred dollars per acre, depending on the individual situation. If minimum adjustments are needed, the cost for implementing adjustments will minimize. However, if major changes are needed (such as brush control, fence installation, fertilizer, and watering facilities), the costs are significantly higher. Furthermore, the results vary due to the climatic differences and other resource differences between grazing land operations. Gaining benefits from proper management may take a few months to several years.

The agency believes that providing voluntary technical assistance to private grazing landowners and operators will also result in public benefits. These benefits include an overall improved quality of life from reduced soil erosion and sedimentation, improved water quality, increased wildlife habitat, and other resource improvements. The benefits also include maintaining a productive Nation and provide economic stability.

List of Subjects in 7 CFR Part 610

Soil conservation, Technical assistance, Water resources.

Accordingly, it is proposed that Part 610, Title 7 of the Code of Federal Regulations be amended as follows:

PART 610—TECHNICAL ASSISTANCE

1. The authority citation for Part 610 continues to read as follows:

Authority: 16 U.S.C. 590a-f, 590q, 2005b, 3861, 3862.

2. By adding a new Subpart D to read as follows:

Subpart D—Conservation of Private Grazing Land
Sec.
610.31 Purpose and scope.
610.32 Technical assistance furnished.

Subpart D—Conservation of Private Grazing Land

§ 610.31 Purpose and scope.

(a) This subpart sets forth the policies for the Conservation of Private Grazing Land (CPGL) program, as authorized by Section 386 of the Federal Agriculture Improvement and Reform Act of 1996 (Pub. L. 104-127, April 4, 1996) 16 U.S.C. 2005b. Under the CPGL program, NRCS will provide technical assistance to landowners and managers who request that assistance. The purpose of the CPGL program is to provide technical assistance to conserve or enhance grazing land resources to meet ecological, economic, and social demands of private grazing landowners and managers.

(b) The NRCS Chief may implement the CPGL program in any of the 50 States, the District of Columbia, Commonwealth of Puerto Rico, Guam, the U.S. Virgin Islands, and American Samoa. NRCS provides assistance in cooperation with conservation districts or directly to a landowner or operator.

§ 610.32 Technical assistance furnished.

(a) The technical assistance to private grazing landowners and managers plans and implements resource conservation plans on grazing land. The objectives of planning on grazing land are to assist landowners and managers to understand the basic ecological principles associated with managing their land's resources (soil, water, air, plants, and animals). By implementing a plan that meets the needs of the resources and their management objectives, these main objectives can be met. NRCS may provide assistance, at the request of the private grazing landowner or manager by:

(1) Maintaining and improving private grazing land and the multiple value and uses that depend on private grazing land;

(2) Ensuring the long-term sustainability of private grazing land resources;

(3) Implementing new grazing land management technologies;

(4) Managing resources on private grazing land through conservation planning, including, but not limited to, grazing management, nutrient management, weed and invasive species control, recreational opportunities, water quality and quantity, aquatic and wildlife habitat, and aesthetics on private grazing land;

(5) Harvesting, processing, and marketing private grazing land resources;

(6) Identifying opportunities and diversifying private grazing land enterprises.

(b) Refer to 7 CFR 610.4 on other items relating to technical assistance.

(c) To receive technical assistance, a landowner or manager may contact NRCS or the local conservation district to seek assistance to solve identified natural resource problems or opportunities. Participation in this program is voluntary.

Signed in Washington, DC, on June 18, 2001.
Pearlie S. Reed,
Chief, Natural Resources Conservation Service.

[FR Doc. 01-15949 Filed 6-28-01; 8:45 am]

BILLING CODE 3410-16-P